DEPARTMENT OF HEALTH AND HUMAN SERVICES

National Institutes of Health

National Institute of Neurological Disorders and Stroke; Amended Notice of Meeting

Notice is hereby given of a change in the meeting of the National Advisory Neurological Disorders and Stroke Council, May 24, 2007, 8 a.m. to May 24, 2007, 10 a.m., National Institutes of Health, Building 31, 31 Center Drive, Bethesda, MD 20892 which was published in the Federal Register on May 1, 2007, FR: 07-2128; 72.

The Clinical Trials Subcommittee meeting scheduled for May 24, 2007, open and closed sessions have changed to closed from 8-8:45 a.m. and open from 8:45-10 a.m. The meeting is partially closed to the public.

Dated: May 8, 2007.
Jennifer Spaeth,
Director, Office of Federal Advisory Committee Policy.

[FR Doc. 07-2431 Filed 5-16-07; 8:45 am]

BILLING CODE 4140-01-M